DEPARTMENT OF THE INTERIOR

Bureau of Land Management

[LLWY-957400-11-L14200000-BJ0000-LXSS054K0000]

Filing of Plat of Survey, Wyoming

AGENCY: Bureau of Land Management, Interior.

ACTION: Notice.

SUMMARY: The Bureau of Land Management (BLM) is scheduled to file the plat of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Land Management and is necessary for the management of these lands. The lands surveyed are:

The plat and field notes representing the dependent resurvey of a portion of Lot No. 72, a portion of the subdivisional lines, and the survey of the subdivision of section 15, Township 52 North, Range 93 West, Sixth Principal Meridian, Wyoming, Group No. 834, was accepted May 19, 2011.

Copies of the preceding described plat and field notes are available to the public at a cost of $1.10 per page.

Dated: May 19, 2011.
John P. Lee,
Chief Cadastral Surveyor, Division of Support Services.

[FR Doc. 2011-12971 Filed 5-24-11; 8:45 am]

BILLING CODE 4310-22-P